DEPARTMENT OF ENERGY

Federal Energy Regulatory Commission

Combined Notice of Filings #1

Take notice that the Commission received the following electric corporate filings:

Docket Numbers: EC13-101-000.

Applicants: Epsom Investment Pte Ltd., GWF Energy LLC.

Description: Joint Application for Transaction Approval pursuant to Section 203 of Epsom Investment Pte Ltd. and GWF Energy LLC.

Filed Date: 4/30/13.

Accession Number: 20130430-5577.

Comments Due: 5 p.m. ET 5/21/13.

Take notice that the Commission received the following electric rate filings:

Docket Numbers: ER10-2985-011; ER10-3049-012; ER10-3051-012.

Applicants: Champion Energy Marketing LLC, Champion Energy Services, LLC, Champion Energy, LLC.

Description: Notice of Change in Status of Champion Energy Marketing LLC, et al.

Filed Date: 5/1/13.

Accession Number: 20130501-5232.

Comments Due: 5 p.m. ET 5/22/13.

Docket Numbers: ER12-2627-003; ER10-2488-007; ER12-1931-003; ER10-2504-004; ER12-610-004; ER13-338-002.

Applicants: Catalina Solar, LLC, Oasis Power Partners, LLC, Pacific Wind Lessee, LLC, Shiloh Wind Project 2, LLC, Shiloh III Lessee, LLC, Shiloh IV Lessee, LLC.

Description: Notice of Change in Status of the EDF Renewable Energy Inc. Southwest Region Companies.

Filed Date: 04/30/2013.

Accession Number: 20130430-5571.

Comments Due: 5 p.m. ET 5/21/13.

Docket Numbers: ER13-1378-001.

Applicants: Southwest Power Pool, Inc.

Description: Errata Filing—Implement City of Coffeyville Formula Rate—ER13-1378 to be effective 7/1/2013.

Filed Date: 5/1/13.

Accession Number: 20130501-5142.

Comments Due: 5 p.m. ET 5/22/13.

Docket Numbers: ER13-1383-000.

Applicants: New England Power Pool Participants Committee.

Description: May 2013 Membership Filing to be effective 5/1/2013.

Filed Date: 5/1/13.

Accession Number: 20130501-5000.

Comments Due: 5 p.m. ET 5/22/13.

Docket Numbers: ER13-1384-000.

Applicants: Interstate Power and Light Company.

Description: IPL and JCE Second Amended Wholesale Power Supply Agreement to be effective 4/1/2013.

Filed Date: 5/1/13.

Accession Number: 20130501-5139.

Comments Due: 5 p.m. ET 5/22/13.

Docket Numbers: ER13-1385-000.

Applicants: Northern Maine Independent System Administrator, Inc.

Description: Tariff Revisions to be effective 6/30/2013.

Filed Date: 5/1/13.

Accession Number: 20130501-5152.

Comments Due: 5 p.m. ET 5/22/13.

Docket Numbers: ER13-1386-000.

Applicants: PPL Energy Supply, LLC.

Description: Notice of Cancellation to be effective 7/1/2013.

Filed Date: 5/1/13.

Accession Number: 20130501-5165.

Comments Due: 5 p.m. ET 5/22/13.

Docket Numbers: ER13-1387-000.

Applicants: PPL Great Works, LLC.

Description: Notice of Cancellation to be effective 7/1/2013.

Filed Date: 5/1/13.

Accession Number: 20130501-5168.

Comments Due: 5 p.m. ET 5/22/13.

Docket Numbers: ER13-1388-000.

Applicants: Northern Maine Independent System Administrator, Inc.

Description: Market Rules Revisions to be effective 6/30/2013.

Filed Date: 5/1/13.

Accession Number: 20130501-5170.

Comments Due: 5 p.m. ET 5/22/13.

Docket Numbers: ER13-1389-000.

Applicants: El Paso Electric Company.

Description: WestConnect Point-to-Point Regional Transmission Service Tariff to be effective 7/1/2013.

Filed Date: 5/1/13.

Accession Number: 20130501-5193.

Comments Due: 5 p.m. ET 5/22/13.

Docket Numbers: ER13-1390-000.

Applicants: New York Independent System Operator, Inc., Niagara Mohawk Power Corporation.

Description: LGIA 1952 NYISO, NiMo and Erie Blvd Hydropower (Stewart's Bridge Hydro) to be effective 4/17/2013.

Filed Date: 5/1/13.

Accession Number: 20130501-5195.

Comments Due: 5 p.m. ET 5/22/13.

Docket Numbers: ER13-1391-000.

Applicants: Commonwealth Edison Company, PJM Interconnection, L.L.C.

Description: ComEd submits revisions to PJM Tariff Attachment H-13A to be effective 6/1/2013.

Filed Date: 5/1/13.

Accession Number: 20130501-5206.

Comments Due: 5 p.m. ET 5/22/13.

Docket Numbers: ER13-1392-000.

Applicants: Public Service Company of Colorado.

Description: 2013-05-01-NSP-WKFLD-Tran-to Load-550 to be effective 1/1/2013.

Filed Date: 5/1/13.

Accession Number: 20130501-5207.

Comments Due: 5 p.m. ET 5/22/13.

Docket Numbers: ER13-1393-000.

Applicants: El Paso Electric Company.

Description: El Paso Electric Company submits updated depreciation rates in the formula rate of Rio Grande Electric Cooperative, Inc.

Filed Date: 5/1/13.

Accession Number: 20130501-5217.

Comments Due: 5 p.m. ET 5/22/13.

Docket Numbers: ER13-1394-000.

Applicants: Indiana Michigan Power Company, American Electric Power Service Corporation, PJM Interconnection, L.L.C.

Description: AEP (I&M) submits withdrawal of RAA sections per 4/2/2013 Order in ER12-1173 to be effective 10/1/2012.

Filed Date: 5/1/13.

Accession Number: 20130501-5239.

Comments Due: 5 p.m. ET 5/22/13.

Docket Numbers: ER13-1395-000.

Applicants: Maine Yankee Atomic Power Company.

Description: Maine Yankee Application to Reduce Rates Under Wholesale Power Contrac—Clone to be effective 7/1/2013.

Filed Date: 5/1/13.

Accession Number: 20130501-5248.

Comments Due: 5 p.m. ET 5/22/13.

Docket Numbers: ER13-1396-000.

Applicants: Public Service Company of New Mexico.

Description: Public Service Company of New Mexico submits City of Gallup Coordination Tariff Service Agreement 2 to be effective 7/1/2013.

Filed Date: 5/1/13.

Accession Number: 20130501-5257.

Comments Due: 5 p.m. ET 5/22/13.

Docket Numbers: ER13-1397-000.

Applicants: Yankee Atomic Electric Company.

Description: Yankee Atomic Electric Company submits Yankee Atomic Application to Reduce Rates Under Wholesale Power Contract to be effective 7/1/2013.

Filed Date: 5/1/13.

Accession Number: 20130501-5258.

Comments Due: 5 p.m. ET 5/22/13.

Docket Numbers: ER13-1398-000.

Applicants: Fairless Energy, LLC, Dominion Bridgeport Fuel Cell, LLC.

Description: Fairless Energy, LLC submits Compliance Filing—DBFC MBR Application and Tariff to be effective 7/2/2013.

Filed Date: 5/1/13.

Accession Number: 20130501-5260.

Comments Due: 5 p.m. ET 5/22/13.

Docket Numbers: ER13-1399-000.

Applicants: Connecticut Yankee Atomic Power Company.

Description: Connecticut Yankee Atomic Power Company submits Connecticut Yankee Application to Reduce Rates Under Wholesale Power Contract to be effective 7/1/2013.

Filed Date: 5/1/13.

Accession Number: 20130501-5262.

Comments Due: 5 p.m. ET 5/22/13.

Docket Numbers: ER13-1401-000.

Applicants: Westbrook Energy Center, LLC.

Description: Westbrook Energy Center, LLC submits Application for Market-Based Rate Authorization to be effective 5/2/2013.

Filed Date: 5/1/13.

Accession Number: 20130501-5269.

Comments Due: 5 p.m. ET 5/22/13.

Docket Numbers: ER13-1402-000.

Applicants: Arizona Public Service Company.

Description: Request for Rate Recovery to be effective 7/1/2013.

Filed Date: 5/2/13.

Accession Number: 20130502-5000.

Comments Due: 5 p.m. ET 5/23/13.

Docket Numbers: ER13-1403-000.

Applicants: Dominion Bridgeport Fuel Cell, LLC.

Description: Compliance Filing—MBR Application and MBR Tariff to be effective 7/2/2013.

Filed Date: 5/2/13.

Accession Number: 20130502-5002.

Comments Due: 5 p.m. ET 5/23/13.

Docket Numbers: ER13-1405-000.

Applicants: NorthWestern Corporation.

Description: SA 682—NITSA with Western Area Power Administration to be effective 7/1/2013.

Filed Date: 5/2/13.

Accession Number: 20130502-5004.

Comments Due: 5 p.m. ET 5/23/13.

Docket Numbers: ER13-1406-000.

Applicants: Osprey Energy Center, LLC.

Description: Application for Market-Based Rate Authorization to be effective 5/3/2013.

Filed Date: 5/2/13.

Accession Number: 20130502-5005.

Comments Due: 5 p.m. ET 5/23/13.

Docket Numbers: ER13-1407-000.

Applicants: CCFC Sutter Energy, LLC.

Description: Application for Market-Based Rate Authorization to be effective 5/3/2013.

Filed Date: 5/2/13.

Accession Number: 20130502-5006.

Comments Due: 5 p.m. ET 5/23/13.

Docket Numbers: ER13-1408-000.

Applicants: The Connecticut Light and Power Company.

Description: The Connecticut Light and Power Company submits Notice of Cancellation of Algonquin Windsor Locks, LLC Interconnection Agreement.

Filed Date: 5/1/13.

Accession Number: 20130501-5321.

Comments Due: 5 p.m. ET 5/22/13.

Docket Numbers: ER13-1409-000.

Applicants: The Connecticut Light and Power Company.

Description: The Connecticut Light and Power Company submits Notice of Cancellation of Towantic Energy, LLC Preliminary Design Services Agreement.

Filed Date: 5/1/13.

Accession Number: 20130501-5333.

Comments Due: 5 p.m. ET 5/22/13.

Docket Numbers: ER13-1410-000.

Applicants: Western Massachusetts Electric Company.

Description: Western Massachusetts Electric Company submits Notice of Cancellation of Littleville Power, Inc. Interconnection Agreement.

Filed Date: 5/1/13.

Accession Number: 20130501-5335.

Comments Due: 5 p.m. ET 5/22/13.

Docket Numbers: ER13-1411-000.

Applicants: Western Massachusetts Electric Company.

Description: Western Massachusetts Electric Company submits Notice of Cancellation of Pioneer Valley Energy Center Preliminary Design and Engineering Agreement.

Filed Date: 5/1/13.

Accession Number: 20130501-5337.

Comments Due: 5 p.m. ET 5/22/13.

Docket Numbers: ER13-1412-000.

Applicants: Western Massachusetts Electric Company.

Description: Western Massachusetts Electric Company submits Notice of Cancellation of Russell Biomass, LLC Permitting, Licensing, Siting and Real Estate Acquisition Services Agreement.

Filed Date: 5/1/13.

Accession Number: 20130501-5344.

Comments Due: 5 p.m. ET 5/22/13.

Take notice that the Commission received the following electric securities filings:

Docket Numbers: ES11-29-002.

Applicants: Entergy Texas, Inc.

Description: Application of Entergy Texas, Inc., for extension of FPA Section 204 authorization.

Filed Date: 4/30/13.

Accession Number: 20130430-5556.

Comments Due: 5 p.m. ET 5/21/13.

Take notice that the Commission received the following land acquisition reports:

Docket Numbers: LA13-1-000.

Applicants: CPV Sentinel, LLC.

Description: Quarterly Land Acquisition Report of CPV Sentinel, LLC.

Filed Date: 5/1/13.

Accession Number: 20130501-5211.

Comments Due: 5 p.m. ET 5/22/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2013.
Nathaniel J. Davis, Sr.,
Deputy Secretary.

[FR Doc. 2013-11420 Filed 5-13-13; 8:45 am]

BILLING CODE 6717-01-P